DEPARTMENT OF THE INTERIOR

National Park Service

36 CFR Chapter 1

Negotiated Rulemaking Advisory Committee for Dog Management at Golden Gate National Recreation Area

ACTION: Notice of fourth meeting.

Notice is hereby given, in accordance with the Federal Advisory Committee Act (Pub. L. 92-463, 86 Stat. 770, 5 U.S.C. App 1, section 10), of the fourth meeting of the Negotiated Rulemaking Advisory Committee for Dog Management at Golden Gate National Recreation Area.

DATES: The Committee will meet on Monday, July 31, 2006 in the Golden Gate Room, Building A, Fort Mason Center in San Francisco. The meeting will begin at 3:30 p.m. This, and any subsequent meetings, will be held to assist the National Park Service in potentially developing a special regulation for dogwalking at Golden Gate National Recreation Area.

The proposed agenda for this meeting of the Committee may contain the following items; however, the Committee may modify its agenda during the course of its work. The Committee will provide for a public comment period during the meeting.

1. Agenda review.

2. Approval of May 15 meeting summary.

3. Updates and announcements.

4. Report from first Technical Subcommittee meeting.

5. Discussion of Interests Assessment Template.

6. Public comment.

7. Adjourn.

To request a sign language interpreter for a meeting, please call the park TDD line (415) 556-2766, at least a week in advance of the meeting. Please note that Federal regulations prohibit pets in public buildings, with the exception of service animals; please leave pets at home.

FOR FURTHER INFORMATION CONTACT: Go to the NPS Planning, Environment and Public Comment (PEPC) Web site, http://www.parkplanning.nps.gov/goga and select Negotiated Rulemaking for Dog Management at GGNRA or call the Dog Management Information Line at 415-561-4728.

SUPPLEMENTARY INFORMATION: The meetings are open to the public. The Committee was established pursuant to the Negotiated Rulemaking Act of 1990 (5 U.S.C. 561-570). The purpose of the Committee is to consider developing a special regulation for dogwalking at Golden Gate National Recreation Area. Interested persons may provide brief oral/written comments to the Committee during the Public Comment period of the meeting or file written comments with the GGNRA Superintendent.

Dated: June 20, 2006.
Loran Fraser,
Chief, Office of Policy.

[FR Doc. E6-10013 Filed 6-23-06; 8:45 am]

BILLING CODE 4312-FN-P